DEPARTMENT OF HOUSING AND URBAN DEVELOPMENT

[Docket No. FR-5997-C-01]

30-Day Notice of Proposed Information Collection: Public Comment Request: Notice on Equal Access Regardless of Sexual Orientation, Gender Identity, or Marital Status for HUD's Community Planning and Development Programs

AGENCY: Office of Community Planning and Development, HUD.

ACTION: Correction; Notice.

SUMMARY: This notice corrects the document HUD published on Tuesday, January 24, 2017 at 82 FR 8839. HUD omitted the Appendix which is included in this document.

DATES: Comments Due Date: March 9, 2017.

ADDRESSES: Interested persons are invited to submit comments regarding this proposal. Comments should refer to the proposal by name and/or OMB Control Number and should be sent to: HUD Desk Officer, Office of Management and Budget, New Executive Office Building, Washington, DC 20503; fax:202-395-5806, Email: OIRA_Submission@omb.eop.gov.

Anna P. Guido, Reports Management Officer, QDAM, Department of Housing and Urban Development, 451 7th Street SW., Room 4176, Washington, DC 20410-5000; telephone 202-402-5535 (this is not a toll-free number) or email at Anna.P.Guido@hud.gov for a copy of the proposed forms or other available information. Persons with hearing or speech impairments may access this number through TTY by calling the toll-free Federal Relay Service at 800-877-8339.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the notice.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Persons who are deaf or hard of hearing or have speech impairments may access this number via TTY by calling the toll-free Federal Relay Service at 800-877-8339. Copies of all comments submitted are available for inspection and downloading at www.regulations.gov.

FOR FURTHER INFORMATION CONTACT: Anna P. Guido, Reports Management Officer, QMAC, Department of Housing and Urban Development, 451 7th Street SW., Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 21, 2016.

I. Background

As noted in the Summary, elsewhere in today's Federal Register, HUD is publishing its final rule entitled “Equal Access in Accordance with an Individual's Gender Identity in Community Planning and Development Programs.” Through this final rule, HUD ensures equal access to individuals in accordance with their gender identity in programs and shelter funded under programs administered by HUD's Office of Community Planning and Development (CPD). This rule builds upon HUD's February 2012 final rule entitled “Equal Access to Housing in HUD Programs Regardless of Sexual Orientation or Gender Identity” (2012 Equal Access Rule), which aimed to ensure that HUD's housing programs would be open to all eligible individuals and families regardless of sexual orientation, gender identity, or marital status. The 2012 Equal Access Rule, however, did not address how transgender and gender non-conforming individuals should be accommodated in temporary, emergency shelters and other buildings and facilities used for shelter that have physical limitations or configurations that require and that are permitted to have shared sleeping quarters or shared bathing facilities.¹ This final rule published in today's Federal Register follows HUD's November 20, 2015 proposed rule, which addressed this issue after soliciting public comment. The final rule requires that recipients and subrecipients of CPD funding, as well as owners, operators, and managers of shelters, and other buildings and facilities and providers of services funded in whole or in part by any CPD program to grant equal access to such facilities, and other buildings and facilities, benefits, accommodations and services to individuals in accordance with the individual's gender identity, and in a manner that affords equal access to the individual's family.

¹ Shared sleeping quarters and shared bathing facilities are those for simultaneous use by more than one person.

The notice set out in the appendix presents an additional measure by HUD to ensure that individuals seeking placement or accommodation in a shelter or other building or facility and housing funded under a program administered by CPD are aware of HUD's equal access policy, as established in HUD's 2012 Equal Access Rule, and elaborated upon in the final rule published in today's Federal Register. Through this PRA notice, HUD proposes to require owners and operators of CPD-funded shelters, housing, buildings and other facilities to post this notice on bulletin boards and in other public places where individuals staying in the shelter, building, housing or facility or seeking placement or accommodation in the shelter, building, housing, or facility would see this information. HUD strives to reduce burden by providing the content of the notice to be posted and estimates it will take about six minutes for owners and operators to print and post this notice. All existing and new owners would be required to post the notice only once, and ensure that it remains visible to those accessing the shelter, housing, or facility.

A. Overview of Information Collection

Title of Information Collection: Notice on Equal Access Regardless of Sexual Orientation, Gender Identity, or Marital Status for HUD's Community Planning and Development Programs.

OMB Approval Number: 2506—New.

Type of Request: New collection of information.

Form Number: None.

Description of the need for the information and proposed use: As noted above, the purposeof the notice set out in the appendix to this PRA notice is to ensure that individuals seeking placement or accommodation in a shelter, building, housing or facility funded under a program administered by CPD are aware of HUD's equal access requirements, as established in HUD's 2012 Equal Access Rule, and elaborated upon in the final rule published in today's Federal Register.

Members of affected public: Owners and operators of a shelter, building, housing or facility funded under programs administered by CPD.

Estimation of the total numbers of hours needed to prepare the information collection including number of respondents, frequency of response, and hours of response:

Please see table below.

Information collection | Number of respondents * | Response frequency (average) | Total ** responses | Burden hours per response | Total annual hours | Hourly rate *** | Burden cost per instrument
A | B | C | D | E | F |  |
HOME Investment Partnerships program | 25,350 | 1 | 25,350 | .10 | 2,535 | $21.73 | $55,085.55
Community Development Block Grant program (State and Entitlement) | 2,430 | 1 | 2,430 | .10 | 243 | 21.73 | 5,280.39
Housing Opportunities for Persons with AIDS program | 100 | 1 | 100 | .10 | 10 | 21.73 | 217.30
Emergency Solutions Grants program & Continuum of Care | 6,750 | 1 | 6,750 | .10 | 675 | 21.73 | 14,667.75
Total | 34,630 |  | 34,630 |  | 3,463 |  | 75,250.99

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35.

Dated: February 1, 2017.
Anna P. Guido,
Department Reports Management Officer, Office of the Chief Information Officer.

Appendix

Notice on Equal Access Regardless of Sexual Orientation, Gender Identity, or Marital Status for HUD's Community Planning and Development Programs

This [shelter/building/housing/facility] receives funding from the U.S. Department of Housing and Urban Department's (HUD) Office of Community Planning and Development (CPD) and MUST comply with the following REQUIREMENTS:

• Determine your eligibility for housing regardless of your sexual orientation, gender identity, or marital status, and must not discriminate against you because you do not conform to gender or sex stereotypes (i.e., because of your gender identity);

• Grant you equal access to CPD programs or facilities consistent with your gender identity, and provide your family with equal access;

• MUST NOT ask you to provide anatomical information or documentary (like your ID), physical, or medical evidence of your gender identity; and

• Take non-discriminatory steps when necessary and appropriate to address privacy concerns raised by any residents or occupants, including you.

If you think this program has violated any of these requirements, including any denial of services or benefits, contact your local HUD office for assistance with alleged violations of HUD program regulations. Local offices can be found at: http://portal.hud.gov/hudportal/HUD?src=/program_offices/field_policy_mgt/localoffices.

If you believe you have experienced housing discrimination because of race, color, religion, national origin, disability, familial status, or sex, including discrimination because of gender identity, contact 1-800-669-9777 or file a written complaint with HUD at: www.hud.gov “file a discrimination complaint”. Persons who are deaf, hard of hearing, or have speech impairments may file a complaint via TTY by calling the Federal Information Relay Service at (800) 877-8339.

To better understand HUD's requirements, the following definitions apply:

• Sexual orientation means one's emotional or physical attraction to the same and/or opposite sex (e.g. homosexuality, heterosexuality, or bisexuality).

• Gender identity means the gender with which a person identifies, regardless of the sex assigned to that person at birth and regardless of the person's perceived gender identity.

• Perceived gender identity means the gender with which a person is perceived to identify based on that person's appearance, behavior, expression, other gender related characteristics, or sex assigned to the individual at birth or identified in documents.

[FR Doc. 2017-02464 Filed 2-6-17; 8:45 am]

BILLING CODE 4210-67-P